DEPARTMENT OF THE TREASURY

Office of Foreign Assets Control

Sanctions Action Pursuant to Executive Order 13726 of April 19, 2016, “Blocking Property and Suspending Entry Into the United States of Persons Contributing to the Situation in Libya”

AGENCY: Office of Foreign Assets Control, Treasury.

ACTION: Notice.

SUMMARY: The U.S. Department of the Treasury's Office of Foreign Assets Control (OFAC) is publishing the name of one individual whose property and interests in property are blocked pursuant to Executive Order 13726 of April 19, 2016, “Blocking Property and Suspending Entry into the United States of Persons Contributing to the Situation in Libya,” and whose name has been added to OFAC's List of Specially Designated Nationals and Blocked Persons (SDN List).

DATES: OFAC's actions described in this notice are effective as of April 13, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On April 13, 2017, OFAC blocked the property and interests in property of the following individual pursuant to Executive Order 13726 of April 19, 2016, “Blocking Property and Suspending Entry into the United States of Persons Contributing to the Situation in Libya:”

HAMANI, Hamma (a.k.a. BANA, Hama; a.k.a. HAMANI, Mohammed; a.k.a. “DJANET, el Hadj Hama”); DOB 1967; POB Illizi, Algeria; nationality Algeria (individual) [SDGT] [LIBYA3] (Linked To: ISLAMIC STATE OF IRAQ AND THE LEVANT).

Dated: April 13, 2017.
Andrea M. Gacki,
Acting Director, Office of Foreign Assets Control.

[FR Doc. 2017-07837 Filed 4-18-17; 8:45 am]

BILLING CODE 4810-AL-P